DEPARTMENT OF HEALTH AND HUMAN SERVICES

Centers for Disease Control and Prevention

[30Day-16-16ACN]

Agency Forms Undergoing Paperwork Reduction Act Review

The Centers for Disease Control and Prevention (CDC) has submitted the following information collection request to the Office of Management and Budget (OMB) for review and approval in accordance with the Paperwork Reduction Act of 1995. The notice for the proposed information collection is published to obtain comments from the public and affected agencies.

Written comments and suggestions from the public and affected agencies concerning the proposed collection of information are encouraged. Your comments should address any of the following: (a) Evaluate whether the proposed collection of information is necessary for the proper performance of the functions of the agency, including whether the information will have practical utility; (b) Evaluate the accuracy of the agencies estimate of the burden of the proposed collection of information, including the validity of the methodology and assumptions used; (c) Enhance the quality, utility, and clarity of the information to be collected; (d) Minimize the burden of the collection of information on those who are to respond, including through the use of appropriate automated, electronic, mechanical, or other technological collection techniques or other forms of information technology, e.g., permitting electronic submission of responses; and (e) Assess information collection costs.

To request additional information on the proposed project or to obtain a copy of the information collection plan and instruments, call (404) 639-7570 or send an email to omb@cdc.gov. Written comments and/or suggestions regarding the items contained in this notice should be directed to the Attention: CDC Desk Officer, Office of Management and Budget, Washington, DC 20503 or by fax to (202) 395-5806. Written comments should be received within 30 days of this notice.

Proposed Project

CDC Workplace Health Promotion Resource Center—New—National Center for Chronic Disease Prevention and Health Promotion (NCCDPHP), Centers for Disease Control and Prevention (CDC).

Background and Brief Description

CDC plans to conduct information collection needed to design and implement a new CDC Workplace Health Promotion Resource Center (Resource Center), where relevant resources will be vetted, catalogued, compiled, and made publicly available to employers and other key stakeholders. Through the Resource Center, CDC will also provide technical assistance (TA) to employers, with the ultimate aim of improving population health, reducing health care utilization, and improving the productivity of employees. These activities are consistent with CDC's role as the primary Federal agency for protecting health and promoting quality of life through the prevention and control of disease, injury, and disability.

Public and private employers can play a significant role in improving the health and well-being of American workers, but often lack the know-how to do so effectively. CDC plays an important role in providing the tools, resources, and technical expertise to support employers' efforts to build and sustain workplace health promotion (WHP) programs and advance healthy company cultures.

The primary goal of the Resource Center is to serve as a prominent and effective resource for employers wishing to create and sustain best-practice WHP initiatives. The project will take place over two phases. In Phase 1, CDC will conduct formative research via interviews, a web-based survey, and an environmental scan of market research reports and other related documents to obtain direct input on stakeholder needs for the Resource Center. This information will be used to design and create the content and layout of the Resource Center. In Phase 2, CDC will use a consumer satisfaction survey, a TA feedback survey, and a TA Pilot assessment to assess satisfaction with the Resource Center and with the TA support mechanisms designed to support users of the Resource Center. This information will be used to refine and improve the design and content of the Resource Center and TA. The target audience includes employers, business groups, workplace health vendors and consultants, health departments, journalists, and researchers.

OMB approval is requested for three years. The first and second year will be dedicated to the Phase 1 formative work and Resource Center development. In years 2 and 3 (Phase 2), the Resource Center will be launched and technical assistance provided. An evaluation of customer satisfaction with the Resource Center, IC and technical assistance will be conducted. CDC estimates that a total 850 employers and stakeholders will participate in surveys and interviews associated with Phase 1 and that approximately 850 employers and stakeholders will complete the customer satisfaction survey and an additional 3-5 states will participate in the technical assistance pilot. Participation is voluntary and there are no costs to respondents other than their time. The total estimated annualized burden hours are 138.

Estimated Annualized Burden Hours
Type of respondents | Form name | Number of respondents | Number of responses per respondent | Avg. burden per response (in hrs.)
Employers | Needs and Interests Interview Guide for Employers | 3 | 1 | 1
Business Groups, Vendors, Consultants, and Public Health Organizations | Needs and Interests Interview Guide for Business Groups, Vendors, Consultants, and Public Health Organizations | 9 | 1 | 1
Journalists | Needs and Interests Interview Guide for Journalists | 1 | 1 | 45/60
Researchers | Needs and Interests Interview Guide for the Research Community | 3 | 1 | 45/60
Key Stakeholders and Users of the Resource Center (All Groups) | Stakeholder Needs and Interests Market Survey | 267 | 1 | 20/60
| Consumer Satisfaction Survey | 283 | 1 | 2/60
Technical Assistance (TA) Participants | TA Feedback Survey | 33 | 5 | 5/60
| TA Pilot Assessment | 33 | 1 | 20/60

Leroy A. Richardson,
Chief, Information Collection Review Office, Office of Scientific Integrity, Office of the Associate Director for Science, Office of the Director, Centers for Disease Control and Prevention.

[FR Doc. 2016-20830 Filed 8-29-16; 8:45 am]

BILLING CODE 4163-18-P